NATIONAL SCIENCE FOUNDATION

Advisory Panel for Genetics; Notice of Meeting

In accordance with the Federal Advisory Committee Act (Pub. L. 92-463, as amended), the National Science announces the following meeting.

Name: Advisory Panel for Genetics (1149) (Panel C).

Date and Time: Monday & Tuesday, June 5-6, 2000, 9 A.M.—5 P.M.

Place: National Science Foundation, 4201 Wilson Blvd., Room 320, Arlington, VA.

Type of Meeting: Closed.

Contact Person: Dr. Philip Harriman, Program Director, (703) 306-1439, Program Director for Microbial Observatories, Room 655, National Science Foundation, 4201 Wilson Boulevard, Arlington, VA 22230.

Purpose of Meeting: To provide advice and recommendations concerning proposals submitted to NSF for financial support.

Agenda: To review and evaluate research proposals submitted to the Microbial Observatories Program as part of the selection process for awards.

Reason for Closing: The proposals being reviewed include information of a proprietary or confidential nature, including technical information, financial data, such as salaries; and personal information concerning individuals associated with the proposals. These matters are exempt under 5 U.S.C. 552b(c), (4) and (6) of the Government in the Sunshine Act.

Dated: May 12, 2000.
Karen J. York,
Committee Management Officer.

[FR Doc. 00-12452 Filed 5-17-00; 8:45 am]

BILLING CODE 7555-01-M